FEDERAL COMMUNICATIONS COMMISSION

47 CFR Part 73

[FCC 02-201; MM Docket No. 98-112, RM-9027, RM-9268, RM-9384]

Radio Broadcasting Services; Anniston and Asland, AL, and College Park, Covington, Milledgeville, and Social Circle, GA

AGENCY: Federal Communications Commission.

ACTION: Final rule; denial of petition for reconsideration.

SUMMARY: This document denies a Petition for Reconsideration and Motion to Reopen the Record filed by Preston Small directed to the Memorandum Opinion and Order in this proceeding which denied an earlier Petition for Reconsideration and Request for Protection filed by Preston Small. See 66 FR 14862, March 4, 2001. With this action, the proceeding is terminated.

DATES: This denial is effective August 30, 2002.

FOR FURTHER INFORMATION CONTACT: Robert Hayne, Mass Media Bureau (202) 418-2177.

SUPPLEMENTARY INFORMATION: This is a synopsis of the Commission's Memorandum Opinion and Order in MM Docket No. 98-112, adopted July 1, 2002, and released July 25, 2002. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

Federal Communications Commission.
Marlene H. Dortch,
Secretary.

[FR Doc. 02-22282 Filed 8-29-02; 8:45 am]

BILLING CODE 6712-01-P